DEPARTMENT OF DEFENSE

Office of the Secretary

[Docket No. DoD-2006-OS-0213]

Proposed Collection; Comment Request

AGENCY: Office of the Under Secretary of Defense (Personnel and Readiness), DoD.

ACTION: Notice.

In compliance with Section 3506(c)(2)(A) of the Paperwork Reduction Act of 1995, the Office of the Under Secretary of Defense (Personnel and Readiness) announces the proposed extension of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by January 26, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Department of Defense Education Activity, 4040 N. Fairfax Drive, Arlington, VA 22203, ATTN: Dr. Sandra Embler, or call at (703) 588-3175.

Title and OMB Control Number: “Department of Defense Education Activity (DoDEA) High School Program Objective Memorandum (POM) Longitudinal Study,” OMB CONTROL NUMBER 0704-0428.

Needs and Uses: The Department of Defense Education Activity (DoDEA) operates 208 schools in 17 districts in 12 foreign countries, 7 states, Guam, and Puerto Rico including 52 high schools. To evaluate the Quality High School Initiative developed at the DoDEA High School Symposium in October 2001, contact with all DoDEA high school students and their sponsors who have left DoDEA high schools is necessary. All students in grades 9-12 who leave DoDEA high schools for any reason (i.e., Permanent Change of Station (PCS), graduation, etc.) and their sponsors will be contacted 3 to 5 months after their departure by a telephonic survey. Four telephone surveys will be used: one for students who leave DoDEA high schools for any reason other than graduation and one for their sponsors; one for DoDEA high school graduates and one for their sponsors. The collected data will be used to determine if quality educational programs are provided to all DoDEA high school students regardless of where the DoDEA high school is located. There is no existing data that is sufficiently comprehensive in terms of meeting the need for this information requirement.

Affected Public: Individuals or households.

Annual Burden Hours: 406.5 hours.

Number of Respondents: 1,626.

Responses per Respondent: 1.

Average Burden Per Response: 15 minutes.

Frequency: On Occasion, Annually.

SUPPLEMENTARY INFORMATION:

Summary of Information Collection

The High School Initiative will be evaluated to determine if quality educational programs are provided to all DoDEA high school students regardless of where the high school is located. The study entails the development of data collection methods and procedures, as well as the analysis of data to document the use of resources and the impact on student achievement in grades 9-12. The study will use a telephonic interview technique to determine the success of the initiative in helping students prepare for educational experiences after leaving Department of Defense (DoD) schools either through graduation, permanent change of station of the sponsor, or for any other reason. Four telephone surveys have been developed: one for all DoDEA sponsors and one for students who leave DoDEA for any reason other than graduation; one for DoDEA sponsors of graduates and students who graduate. These four telephone surveys include questions on transition, curriculum, courses, activities, counselors, teachers, administrators, and summary issues. Respondents will respond 3 to 5 months after leaving a DoDEA high school for any reason and then again one year later.

Dated: November 17, 2006.
Patricia L. Toppings,
Alternate OSD Federal Register Liaison Officer, Department of Defense.

[FR Doc. 06-9397 Filed 11-24-06; 8:45 am]

BILLING CODE 5001-06-M